DEPARTMENT OF THE TREASURY

Office of Thrift Supervision

Peoples First Community Bank Panama City, FL; Notice of Appointment of Receiver

Notice is hereby given that, pursuant to the authority contained in section 5(d)(2) of the Home Owners' Loan Act, the Office of Thrift Supervision (OTS) has duly appointed the Federal Deposit Insurance Corporation as sole Receiver for Peoples First Community Bank, Panama City, Florida (OTS No. 07939), on December 18, 2009.

Dated: December 23, 2009.
By the Office of Thrift Supervision.
Sandra E. Evans,
Federal Register Liaison.

[FR Doc. E9-30953 Filed 12-30-09; 8:45 am]

BILLING CODE 6720-01-M